DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327.

SUMMARY: The FHWA, on behalf of Caltrans, is issuing this notice to announce actions taken by Caltrans, that are final within the meaning of 23 U.S.C. 139(l)(1). The actions relate to a proposed highway project, the State Route (SR) 85 Express Lanes Project from Post Miles 0.0 to R24.1 on SR 85, Post Miles 23.1 to 28.6 on United States Highway 101 (US 101), and Post Miles 47.9 to 52.0 on US 101 in the County of Santa Clara, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before October 5, 2015. If the Federal law that authorizes judicial review of a claim provides a time period of less than 150 days for filing such claim, then that shorter time period still applies.

FOR FURTHER INFORMATION CONTACT: For Caltrans: Cristin Hallissy, Branch Chief, Environmental Analysis Branch, California Department of Transportation, District 4, 111 Grand Avenue, Oakland, CA 94612; telephone 510-622-8717; email cristin.hallissy@dot.ca.gov. Normal business hours for the Environmental Analysis Branch are 8:30 a.m. to 5:00 p.m. (Pacific time).

SUPPLEMENTARY INFORMATION: Effective July 1, 2007, the Federal Highway Administration (FHWA) assigned, and the California Department of Transportation (Caltrans) assumed, environmental responsibilities for this project pursuant to 23 U.S.C. 327. Notice is hereby given that the Caltrans has taken final agency actions subject to 23 U.S.C. 139(l)(1) by issuing licenses, permits, and approvals for the following highway project in the State of California: The SR 85 Express Lanes Project would convert the existing High-Occupancy Vehicle (HOV) lanes on SR 85 to express lanes and add a second express lane in both directions between SR 87 and Interstate 280 (I-280). The conversion of the HOV lanes to express lanes would allow single-occupant vehicles (SOVs) to pay a toll to use the lanes, while HOVs would continue to use the lanes for free. The purpose of the project is to manage traffic in the congested HOV segments of the freeway between SR 87 and I-280, and maintain consistency with provisions defined in AB 2032 (2004) and AB 574 (2007) to implement express lanes in an HOV lane system in Santa Clara County.

The express lanes would extend along the entire 24.1-mile length of SR 85 and 1.5 miles of US 101 from the southern end of SR 85 to Metcalf Road in San Jose. The project would also convert the SR 85/US 101 HOV direct connectors in San Jose to express lane connectors, add signs to 4.1 miles of US 101 north of SR 85 in Mountain View and Palo Alto and to 1.8 miles of US 101 between Metcalf Road and Bailey Avenue in San Jose, and add an auxiliary lane to a 1.1-mile segment of northbound SR 85 between South De Anza Boulevard and Stevens Creek Boulevard in Cupertino. The total project length is 33.7 miles.

The actions by the Federal agencies, and the laws under which such actions were taken, are described in the Final Environmental Assessment (EA)/Finding of No Significant Impact (FONSI) for the project, approved on April 20, 2015, and in other documents in the FHWA project records. The EA/FONSI and other project records are available by contacting Caltrans at the addresses provided above. The Caltrans EA/FONSI can be viewed and downloaded from the project Web site at http://www.dot.ca.gov/dist4/envdocs.htm#santaclara.

This notice applies to all Federal agency decisions as of the issuance date of this notice and all laws under which such actions were taken, including but not limited to:

1. General: National Environmental Policy Act (NEPA) [42 U.S.C. 4321-4351]; Federal-Aid Highway Act [23 U.S.C. 109 and 23 U.S.C. 128].

2. Air: Clean Air Act [42 U.S.C. 7401-7671(q)].

3. Wildlife: Endangered Species Act [16 U.S.C. 1531-1544 and Section 1536]; Fish and Wildlife Coordination Act [16 U.S.C. 661-667(d)]; Migratory Bird Treaty Act [16 U.S.C. 703-712].

4. Historic and Cultural Resources: Section 106 of the National Historic Preservation Act of 1966, as amended [16 U.S.C. 470(f) et seq.]; Archaeological Resources Protection Act of 1977 [16 U.S.C. 470(aa)-470(ll)].

5. Social and Economic: Civil Rights Act of 1964 [42 U.S.C. 2000(d)-2000(d)(1)].

6. Wetlands and Water Resources: Clean Water Act (Section 404, Section 401, Section 319) [33 U.S.C. 1251-1377].

7. Executive Orders: E.O. 11988, Floodplain Management; E.O. 12898, Federal Actions to Address Environmental Justice in Minority Populations and Low Income Populations; E.O. 13112, Invasive Species.

(Catalog of Federal Domestic Assistance Program Number 20.205, Highway Planning and Construction. The regulations implementing Executive Order 12372 regarding intergovernmental consultation on Federal programs and activities apply to this program.)

Authority: 23 U.S.C. 139(l)(1).

Matthew Schmitz,
Director, State Programs, Federal Highway Administration, Sacramento, California.

[FR Doc. 2015-10555 Filed 5-7-15; 8:45 am]

BILLING CODE 4910-RY-P